DEPARTMENT OF AGRICULTURE

Forest Service

Notice of New Fee Site; Federal Lands Recreation Enhancement Act (Title VIII, Pub. L. 108-447)

AGENCY: Gila National Forest, Forest Service, USDA.

ACTION: Notice of new fee site and solicitation of comments.

SUMMARY: The Gila National Forest proposes to begin charging a fee for the overnight rental of the Kingston Administrative Site and the Straight Gulch Cabin. Rentals of Forest Service cabins in Arizona have shown that the public appreciates and enjoys the availability of historic rental cabins. Funds from the rentals will be used for the continued operation and maintenance of the Kingston Administrative Site and the Straight Gulch Cabin. The Kingston Administrative Site is located in T16S, R8W, Section 17, NMPM, and the Straight Gulch Cabin is located in T10S, R9W, Section 6, NMPM, on the Black Range Ranger District.

DATES: The Kingston Administrative Site and Straight Gulch Cabin are expected to become available for rent October 2006. Comments, concerns or questions about this new fee must be submitted by September 1, 2006.

ADDRESSES: Submit written comments, concerns, or questions about the new fee associated with the Kingston Administrative Site and Straight Gulch Cabin rentals to Forest Supervisor, Gila National Forest, 3005 E. Camino Del Bosque, Silver City, NM 88061.

FOR FURTHER INFORMATION CONTACT: Carol Telles, Archaeologist, Gila National Forest, Black Range Ranger District, 505-894-6677.

SUPPLEMENTARY INFORMATION: The Federal Lands Recreation Enhancement Act (Title VIII, Pub. L. 108-447) directed the Secretary of Agriculture to publish a six month advance notice in the Federal Register whenever new recreation fee areas are established. The intent of this notice is to give the public an opportunity to comment if they have concerns or questions about new fees.

This will be the Gila National Forest's first cabin rental opportunity. Other cabin rentals exist in neighboring national forests in Arizona. The cabins in Arizona are often fully booked throughout their rental season. The Gila National Forest proposes to rent the cabins for $75 to $125 a night, but will conduct a market analysis to determine if those fees are both reasonable and acceptable for this sort of unique recreation experience. People wanting to rent the Kingston Administrative Site or the Straight Gulch Cabin will need to do so through the National Recreation Reservation Service at http://www.reserveusa.com or by calling 1-877-444-6777. The National Recreation Reservation Service charges a $9 fee for reservations.

Dated: February 2, 2006.
Patrick L. McKee,
Acting Forest Supervisor.

[FR Doc. 06-1143 Filed 2-7-06; 8:45 am]

BILLING CODE 3410-11-M